COMMITTEE FOR PURCHASE FROM PEOPLE WHO ARE BLIND OR SEVERELY DISABLED

Procurement List; Proposed Additions and Deletions

ACTION: Proposed Additions to and Deletions from the Procurement List.

SUMMARY: The Committee is proposing to add to the Procurement List a product and services to be furnished by nonprofit agencies employing persons who are blind or have other severe disabilities, and to delete products and services previously furnished by such agencies.

Comments Must Be Received on or Before: April 6, 2008.

Address: Committee for Purchase From People Who Are Blind or Severely Disabled, Jefferson Plaza 2, Suite 10800, 1421 Jefferson Davis Highway, Arlington, Virginia, 22202-3259.

For Further Information or To Submit Comments Contact: Kimberly M. Zeich, Telephone: (703) 603-7740, Fax: (703) 603-0655, or e-mail CMTEFedReg@jwod.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice for each product or service will be required to procure the product and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the product and services to the Government.

2. If approved, the action will result in authorizing small entities to furnish the product and services to the Government.

3. There are no known regulatory alternatives which would accomplish the objectives of the Javits-Wagner-O'Day Act (41 U.S.C. 46-48c) in connection with the product and services proposed for addition to the Procurement List.

Comments on this certification are invited. Commenters should identify the statement(s) underlying the certification on which they are providing additional information.

End of Certification

The following product and services are proposed for addition to Procurement List for production by the nonprofit agencies listed:

Product

Peel & Stick, Non-Skid Kits

NSN: 2040-00-NIB-0333—Traction Material, 25 ft RBS USCG Boat Kit-770.

NSN: 2040-00-NIB-0336—Traction Material, 41 ft MLB USCG Boat Kit-770.

NSN: 2040-00-0339—Traction Material, 45 ft RBM USCG Boat Kit-770, 370, 310.

NSN: 2040-00-NIB-0342—Traction Material, 47 ft MLB USCG Boat Kit-770.

NSN: 2040-00-NIB-0345—Traction Material, 55 ft ANB USCG Boat Kit-770.

NSN: 2040-00-NIB-0348—Traction Material, 75 ft USCG Boat Kit-770.

NSN: 2040-00-NIB-0351—Traction Material, 87 ft WBP USCG Boat Kit-770.

NSN: 2040-00-NIB-0356—Traction Material, 110 ft USCG Boat Kit-770 (280).

NSN: 2040-00-NIB-0357—Traction Material, 110 ft USCG Boat Kit-770 (264).

NSN: 2040-00-NIB-0359—Traction Material, 27 ft UTM USCG Boat Kit-770.

NSN: 2040-00-NIB-0360—Traction Material, 23 ft UTM USCG Boat Kit-770.

NSN: 2040-00-NIB-0361—Traction Material, CBLII Boat Kit-770.

NSN: 2040-00-NIB-0362—Traction Material, 25 ft RB-HS USCG Boat Kit-770.

NSN: 2040-00-NIB-0363—Traction Material, 33 ft SPCLE USCG Boat Kit-770.

NSN: 2040-00-NIB-0364—Traction Material, 123 ft USCG Boat Kit-770.

NSN: 2040-00-NIB-0365—Traction Material, 225 ft USCG Boat Kit-770.

NPA: Louisiana Association for the Blind, Shreveport, LA.

Coverage: C-List for the requirements of the U.S. Coast Guard.

Contracting Activity: U.S. Coast Guard, Lockport, LA.

Services

Service Type/Location: Custodial Services, U.S. Department of Agriculture, Forest Service—District Office, 4000 I-75 Business Spur, Sault Sainte Marie, MI.

NPA: Northern Transitions, Inc., Sault Sainte Marie, MI.

Contracting Activity: Hiawatha National Forest, Escanaba, MI.

Service Type/Location: Document Destruction, Internal Revenue Service, 600 Main Street, Richmond, VA.

NPA: Goodwill Services, Inc., Richmond, VA.

Service Type/Location: Document Destruction, Internal Revenue Service, 806 Governors Drive SW, Huntsville, AL.

Service Type/Location: Document Destruction, Internal Revenue Service, 2204 Lakeshore Drive, Suite 210, Birmingham, AL.

Service Type/Location: Document Destruction, Internal Revenue Service, 204 S. Walnut St., Florence, AL.

NPA: United Cerebral Palsy of Greater Birmingham, Inc., Birmingham, AL.

Service Type/Location: Document Destruction, Internal Revenue Service, 2203 N. Lois Avenue, Tampa, FL.

Service Type/Location: Document Destruction, Internal Revenue Service, 3848 W. Columbus Drive, Tampa, FL.

Service Type/Location: Document Destruction, Internal Revenue Service, 9450 Koger Boulevard, St. Petersburg, FL.

NPA: Louise Graham Regeneration Center, Inc., St. Petersburg, FL.

Contracting Activity: U.S. Department of the Treasury, Internal Revenue Service, Chamblee, GA.

Service Type/Location: Grounds Maintenance, Naval Submarine Base, New London, Basewide, Groton, CT.

NPA: CW Resources, Inc., New Britain, CT.

Contracting Activity: Naval Facilities Engineering Command, Mid-Atlantic, Groton, CT.

Deletions

Regulatory Flexibility Act Certification

I certify that the following action will not have a significant impact on a substantial number of small entities. The major factors considered for this certification were:

1. If approved, the action should not result in additional reporting, recordkeeping or other compliance requirements for small entities.

2. If approved, the action may result in authorizing small entities to furnish the product and service to the Government.

3. There are no known regulatory alternatives which would accomplish the objectives of the Javits-Wagner-O'Day Act (41 U.S.C. 46-48c) in connection with the product and service proposed for deletion from the Procurement List.

Comments on this certification are invited. Commenters should identify the statement(s) underlying the certification on which they are providing additional information.

End of Certification

The following product and service are proposed for deletion from the Procurement List:

Product

Paperweight, Shotfilled

NSN: 7510-00-286-6985

NPA: New Mexico Industries for the Blind, Albuquerque, NM.

Contracting Activity: General Services Administration, Office Supplies & Paper Products Acquisition Ctr., New York, NY.

Service

Service Type/Location: Janitorial/Custodial, Abingdon Memorial USARC, Abingdon, VA.

NPA: Highlands Community Services Board, Bristol, VA.

Contracting Activity: 99th USAR Regional Support Command, Coraopolis, PA.

Kimberly M. Zeich,
Director, Program Operations.

[FR Doc. E8-4537 Filed 3-6-08; 8:45 am]

BILLING CODE 6353-01-P